DEPARTMENT OF JUSTICE

Antitrust Division

Notice Pursuant to the National Cooperative Research and Production Act of 1993—U.S. Photovoltaic Manufacturing Consortium, Inc.

Notice is hereby given that, on November 14, 2011, pursuant to Section 6(a) of the National Cooperative Research and Production Act of 1993, 15 U.S.C. 4301 et seq. (“the Act”), U.S. Photovoltaic Manufacturing Consortium, Inc. (“USPVMC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: SEMATECH, the Research Foundation of State University of New York (“Foundation”), Albany, NY, acting on behalf of the College of Nanoscale Science and Engineering (“CNSE”) of the University at Albany, State University of New York (“UAlbany”), Albany, NY; and University of Central Florida (“UCF”), Orlando, FL.

The general area of USPVMC's planned activity is to address the pre-competitive research and development, and the manufacturing collaboration to accelerate the commercialization of next generation photovoltaic systems.

Patricia A. Brink,
Director of Civil Enforcement, Antitrust Division.

[FR Doc. 2011-32709 Filed 12-20-11; 8:45 am]

BILLING CODE 4410-11-P